DEPARTMENT OF JUSTICE

Antitrust Division

Notice Pursuant to the National Cooperative Research and Production Act of 1993—Joint Committee on Standards for Educational Evaluation

Notice is hereby given that, on September 22, 2004, pursuant to section 6(a) of the National Cooperative Research and Production Act of 1993, 15 U.S.C. 4301 et seq. (“the Act”), Joint Committee on Standards for Educational Evaluation (“JCSEE”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: Joint Committee on Standards for Educational Evaluation, Kalamazoo, MI. The nature and scope of JCSEE's standards development activities are: The development and maintenance of standards for evaluations of educational programs, projects, and materials; educational personnel; and other critical aspects of education.

Dorothy B. Fountain,
Deputy Director of Operations, Antitrust Division.

[FR Doc. 04-26205 Filed 11-26-04; 8:45 am]

BILLING CODE 4410-11-M